DEPARTMENT OF COMMERCE

National Oceanic and Atmospheric Administration

[RTID 0648-XF214]

Endangered and Threatened Species; Take of Anadromous Fish

AGENCY: National Marine Fisheries Service (NMFS), National Oceanic and Atmospheric Administration (NOAA), Department of Commerce.

ACTION: Notice; availability of a proposed evaluation and pending determination for public comment.

SUMMARY: Notice is hereby given that NMFS has received a Hatchery and Genetics Management Plan (HGMP) for seven hatchery programs rearing and releasing fall Chinook salmon, spring Chinook salmon, fall chum salmon, sockeye salmon, coho salmon and steelhead in the Skokomish River basin. The plan describes a hatchery program operated by Washington Department of Fish and Wildlife (WDFW) in collaboration with the Skokomish Indian Tribe and Tacoma Power Utility as co-managers. This document serves to notify the public of the availability and opportunity to comment on a Proposed Evaluation and Pending Determination Documents (PEPD) on implementing the proposed hatchery program and enforcing the associated HGMP, which concludes that it will not appreciably reduce the likelihood of survival and recovery nor modify or destroy critical habitat of Hood Canal-Strait of Juan de Fuca summer chum salmon, Puget Sound Chinook salmon, or Puget Sound steelhead.

DATES: Comments must be received no later than 5 p.m. Pacific time on January 22, 2026. Comments received after this date may not be considered.

ADDRESSES: You may submit comments on this document, identified by NOAA-NMFS-2025-0736, by the following method:

• Electronic Submission: Submit all electronic public comments via the Federal e-Rulemaking Portal. Visit https://www.regulations.gov and type NOAA-NMFS-2025-0736 in the Search box. Click on the “Comment” icon, complete the required fields, and enter or attach your comments.

• The HGMP is available online concurrently while the comment period for the PEPD is open at: https://wdfw.wa.gov/fishing/management/hatcheries/hgmp#comment.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Chante Davis at (503) 321-2307; or by email at chante.davis@noaa.gov.

SUPPLEMENTARY INFORMATION:

Endangered Species Act (ESA)-Listed Species Covered in This Notice

• Hood Canal-Strait of Juan de Fuca summer chum salmon (Oncorhynchus keta): threatened, naturally and artificially propagated;

• Puget Sound Chinook salmon (Oncorhynchus tshawytscha): threatened, naturally and artificially propagated; and

• Puget Sound Steelhead (Oncorhynchus mykiss): threatened, naturally and artificially propagated.

Background

The term “take” is defined under the ESA to mean harass, harm, pursue, hunt, shoot, wound, kill, trap, capture, or collect, or to attempt to engage in any such conduct. The ESA prohibits the take of endangered salmonids and, pursuant to ESA section 4(d), ESA regulations can be extended to prohibit the take of threatened salmonids. However, NMFS may make exceptions to the take prohibitions for hatchery programs that are approved by NMFS under the limits on the prohibitions outlined in 50 CFR 223.203(b). The operators, WDFW collaborating with tribal co-manager Jamestown S'Klallam Tribe, have submitted an HGMP to NMFS pursuant to NMFS' Limit 6 of the 4(d) Rule of the ESA for hatchery activities in the Skokomish River basin, Washington. The PEPD is NMFS' initial determination for how the HGMP addresses the criteria in 50 CFR 223.203(b)(5).

The hatchery program under review is designed to contribute to the reintroduction and recovery of Chinook salmon, sockeye salmon and steelhead in the Skokomish River basin. These fish contribute to the stability of Pacific salmon fish stocks in order to maintain sustainable U.S. fisheries and strengthen the national seafood supply chain. The hatchery programs are intended to contribute to fulfilling federal trust responsibilities toward Tribes with rights guaranteed through treaties, as affirmed in United States v. Washington (1974), by contributing to the recovery of ESA-listed salmon. Additionally, the programs are intended to contribute to the survival and recovery of Puget Sound Chinook Salmon and Puget Sound Steelhead, provide information on exploitation rates, and support returns of coho salmon, Chinook salmon, and sockeye salmon to the Skokomish River basin.

Classification

Under section 4 of the ESA, the Secretary of Commerce is required to adopt such regulations as deemed necessary and advisable for the conservation of species listed as threatened. The ESA salmon and steelhead 4(d) Rule (50 CFR 223.203(b)) specifies categories of activities that contribute to the conservation of listed salmonids and sets out the criteria for such activities. The rule further provides that the prohibitions of paragraph (a) of the rule do not apply to actions undertaken in compliance with a plan developed jointly by a state and a tribe and determined by NMFS to be in accordance with the salmon and steelhead 4(d) Rule (65 FR 42422, July 10, 2000).

Authority: 16 U.S.C. 1531 et seq.; 16 U.S.C. 742a et seq.

Dated: December 18, 2025.
Jennifer Leigh Quan,
Regional Administrator, West Coast Region, National Marine Fisheries Service.

[FR Doc. 2025-23684 Filed 12-22-25; 8:45 am]

BILLING CODE 3510-22-P